DEPARTMENT OF VETERANS AFFAIRS

[OMB Control No. 2900—New (VRE)]

Agency Information Collection (Evaluation of VA's Vocational Rehabilitation and Employment (VR&E) Program) Activities Under OMB Review

AGENCY: Office of Policy and Planning, Department of Veterans Affairs.

ACTION: Notice.

SUMMARY: In compliance with the Paperwork Reduction Act (PRA) of 1995 (44 U.S.C. 3501-3521), this notice announces that the Office of Policy, Planning and Preparedness (OPP&P), Department of Veterans Affairs, has submitted the collection of information as abstracted below to the Office of Management and Budget (OMB) for review and comment. The PRA submission describes the nature of the information collection and its expected cost and burden; it includes the actual data collection instrument.

DATES: Comments must be submitted on or before June 10, 2009.

ADDRESSES: Submit written comments on the collection of information through http://www.Regulations.gov; or to VA's OMB Desk Officer, Office of Information and Regulatory Affairs, New Executive Office Building, Room 10235, Washington, DC 20503, (202) 395-7316. Please refer to “OMB Control 2900—New (VRE)” in any correspondence.

FOR FURTHER INFORMATION CONTACT: Denise McLamb, Enterprise Records Service (005R1B), Department of Veterans Affairs, 810 Vermont Avenue, NW., Washington, DC 20420, (202) 461-7485, FAX (202) 273-0443 or e-mail: denise.mclamb@mail.va.gov. Please refer to “OMB Control No. 2900—New (VRE).

SUPPLEMENTARY INFORMATION: Title: Evaluation of VA's Vocational Rehabilitation and Employment (VR&E) Program.

OMB Control Number: 2900—New (VRE).

Type of Review: New collection.

Abstract: The evaluation requires information that is not available in VA administrative files and therefore surveys will be conducted of program participants and non-participants and counselors who assist them. Focus groups will be conducted with dependents of program participants. In addition, interviews will be conducted with officials of State vocational rehabilitation programs to conduct an inventory of these programs that are also available to disabled veterans. This evaluation is part of an ongoing assessment of the effectiveness of programs conducted to fulfill the requirements of Public Law 103-62, the Government Performance and Results Act of 1993, and Title 38, 527, Evaluation and Data Collection. This evaluation will provide information to support VA policy, planning, and quality improvement decisions.

An agency may not conduct or sponsor, and a person is not required to respond to a collection of information unless it displays a currently valid OMB control number. The Federal Register Notice with a 60-day comment period soliciting comments on this collection of information was published on February 10, 2009, at pages 6695-6696.

Affected Public: Individuals or households.

Estimated Total Annual Burden: 10,118 hours.

Estimated Average Burden per Respondent: 24 minutes.

Frequency of Response: One-time.

Estimated Number of Respondents: 25,240.

Dated: May 5, 2009.
By direction of the Secretary.
Denise McLamb,
Program Analyst, Enterprise Records Service.

[FR Doc. E9-10792 Filed 5-8-09; 8:45 am]

BILLING CODE A320-01-P